NATIONAL SCIENCE FOUNDATION

Proposal Review Panel for Physics, Notice of Meeting

In accordance with the Federal Advisory Committee Act (Pub. L. 92-463, as amended), the National Science Foundation announces the following meeting.

Name: AdvLIGO Construction Review Site Visit at Livingston Observatory for Physics, #1208

Date and Time: Tuesday, April 30, 2013; 8:00 a.m.-6:00 p.m., Wednesday, May 1, 2013, 8:00 a.m.-5:00 p.m., Thursday, May 2, 3013, 8:00 a.m.-3:00 p.m.

Place: LIGO site at Livingston, LA.

Type of Meeting: Partially Closed.

Contact Person: Mark Coles, Director of Large Facilities, Division of Physics, National Science Foundation, (703) 292-4432.

Purpose of Meeting: To provide an evaluation of the project construction for implementation of the AdvLIGO project to the National Science Foundation.

Agenda

Tuesday, April 30, 2013

8:00 a.m.-8:30 p.m. Closed—Panel Executive Session

8:30 a.m.-12:15 p.m. Open—Introduction, Charge, Context and Transition Interferometer integration

12:15 Lunch

1:00 p.m.-3:00 p.m. Open—Tour

3:00 p.m.-4:15 p.m. Open—Acceptance, Safety, QA, Risks, Vendor Oversight

4:30 p.m.-6:00 p.m. Closed—Panel Executive Session

Wednesday, May 1, 2013

8:00-8:30 a.m. Closed—Panel Executive Session

8:30-12:30 p.m. Open—Breakout Sessions

12:30 Lunch

1:15 p.m.-4:00 p.m. Open—Plenary Final Session

4:00 p.m.-5:00 p.m. Closed Panel Executive Session

Thursday, May 2, 2013

8:00 a.m.-2:00 p.m. Closed—Panel Executive Session

2:00 p.m.-3:00 p.m. Open—Closing Address

Reason for Late Notice: Due to unforeseen scheduling complications and the necessity to proceed with the review.

Reason for Closing: The proposal contains proprietary or confidential material, including technical information on personnel. These matters are exempt under 5 U.S.C. 552b(c)(2)(4) and (6) of the Government in the Sunshine Act.

Dated: April 24, 2013.
Susanne Bolton,
Committee Management Officer.

[FR Doc. 2013-10007 Filed 4-26-13; 8:45 am]

BILLING CODE 7555-01-P